DEPARTMENT OF COMMERCE

National Oceanic and Atmospheric Administration

[Docket Number: 080424599-8600-01]

National Weather Service Support for Special Event

AGENCY: National Weather Service, National Oceanic and Atmospheric Administration, Department of Commerce.

ACTION: Notice; request for comments.

SUMMARY: The National Weather Service (NWS) proposes to update its policy regarding NWS support for special events such as athletic competitions and festivals. These events can put large numbers of spectators and participants in harm's way if adverse weather conditions occur. This policy update is intended to clarify the role of NWS in providing products and services as well as address the role of private sector weather providers in providing complementary services.

DATES: The agency must receive comments on or before June 30, 2008.

ADDRESSES: Comments must be submitted to the following address: nwssp.comments@noaa.gov or land mail address below. The proposed policy is available electronically at http://weather.gov/sp/specialevents.htm Requests for hard copies should be sent to Special Events, Room 11430, 1325 East-West Highway, Silver Spring, MD 20910-3283.

FOR FURTHER INFORMATION CONTACT: For further information contact Wendy Levine, at 301-713-3380 or by e-mail at wendy.levine@noaa.gov.

Dated: April 28, 2008.
David Murray,
Director, Management and Organization Division, Office of the Chief Financial Officer, NWS.

[FR Doc. E8-9614 Filed 4-30-08; 8:45 am]

BILLING CODE 3510-KE-P